ENVIRONMENTAL PROTECTION AGENCY

[FRL-9906-82-OEI; EPA-HQ-OEI-2012-0483]

Amendment of the Federal Docket Management System (EPA/GOV-2)

AGENCY: Environmental Protection Agency.

ACTION: Notice.

SUMMARY: Pursuant to the provisions of the Privacy Act of 1974 (5 USC 552a), the Environmental Protection Agency (EPA) is giving notice that it is amending the Federal Docket Management System (FDMS) system of records to include additional categories of records. The amendment is required to address additional categories of information collected from Freedom of Information Act (FOIA) requesters by some participating agencies and information voluntarily provided, even when not required. The categories of records in the system are being amended to include social security numbers, dates of birth for requesters, requester alias(es), alien numbers assigned to travelers crossing national borders and the requester's parents' names. The FOIA system, “FOIAonline”, is a software application on the FDMS system infrastructure. The FOIAonline system is used by participating agencies to electronically receive, process, track and store requests from the public for federal records; post responsive records to a Web site; collect data for annual reporting requirements to the Department of Justice, and manage internal FOIA administration activities. In addition to the current FDMS functionalities, the FOIA system allows the public to submit and track FOIA requests and appeals; access requests and responsive records online, and obtain the status of requests filed with participating agencies.

DATES: Persons wishing to comment on this system of records notice must do so by March 31, 2014.

ADDRESSES: Submit your comments, identified by Docket ID No. EPA-HQ-OEI-2012-0483 by one of the following methods:

• www.regulations.gov: Follow the online instructions for submitting comments.

• Email: oei.docket@epa.gov.

• Fax: 202-566-1752.

• Mail: OEI Docket, Environmental Protection Agency, Mail code: 2822T, 1200 Pennsylvania Ave. NW., Washington, DC 20460.

• Hand Delivery: OEI Docket, EPA/DC, WJC West Building, Room 3334, 1301 Constitution Ave. NW., Washington, DC. Such deliveries are only accepted during the docket's normal hours of operation, and special arrangements should be made for deliveries of boxed information.

Instructions: Direct your comments to Docket ID No. EPA-HQ-OEI-2012-0483. EPA's policy is that all comments received will be included in the public docket without change and may be made available online at www.regulations.gov, including any personal information provided, unless the comment includes information claimed to be Confidential Business Information (CBI) or other information for which disclosure is restricted by statute. Do not submit information that you consider to be CBI or otherwise protected through www.regulations.gov. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment, and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: All documents in the docket are listed in the www.regulations.gov index. Although listed in the index, some information is not publicly available (e.g., confidential or other information for which disclosure is restricted by statute). Certain other material, such as copyrighted material, will be publicly available only in hard copy. Publicly available docket materials are available either electronically in www.regulations.gov or in hard copy at the OEI Docket, EPA/DC, WJC West Building, Room 3334, 1301 Constitution Ave. NW., Washington, DC. The Public Reading Room is open from 8:30 a.m. to 4:30 p.m., Monday through Friday, excluding legal holidays. The telephone number for the Public Reading Room is (202) 566-1744, and the telephone number for the OEI Docket is (202) 566-1752.

FOR FURTHER INFORMATION CONTACT: eRulemaking Program Management Office, (202) 566-1385, U.S. EPA, Office of Environmental Information, M/C 2282T, 1200 Pennsylvania Ave. NW., Washington, DC 20460.

General Information

EPA is amending the Federal Docket Management System (FDMS) (System number: EPA-GOV-2) to include additional categories of records. The original system of record notice for FDMS was published in the Federal Register on March 24, 2005 and was amended on October 2, 2013 to add records collected in a Freedom of Information Act (FOIA) system. The FDMS regulatory system contains Federal Register notices, materials supporting regulatory actions such as scientific and economic analyses, and public comments. The repository also contains dockets that are non-rulemaking. The system is used by 39 federal agencies that conduct rulemaking activities. Each agency is responsible for managing its own docket and rulemaking documents. An agency may share documents with other agencies or persons in addition to making them available to the public on the regulations.gov Web site. Each agency has sole responsibility for documents submitted in support of its rulemakings. These documents will be processed by the responsible agencies.

Some agencies require individuals to provide personally identifiable information when submitting a comment (e.g., name and contact information) that the agency can use if it experiences a problem receiving the comment or requires additional information to process the comment. A comment that meets all requirements of the recipient agency will be posted on the regualtions.gov Web site for public viewing. All the contents of posted comments will be searchable. Each agency manages, accesses, and controls the information in the regulatory system that is submitted to it and maintains the sole ability to disclose the information it receives.

The FOIA system, FOIAonline, is used by participating agencies to administratively control and process requests for records in compliance with FOIA and to automate agency FOIA administration activities. FOIAonline provides a secure, login access Web site for agencies to receive and store requests; assign and process requests; post responses online; produce agencies' annual reports to the Department of Justice and manage FOIA requests electronically. The system allows the public to submit and track requests; search and download requests and responsive records; correspond with processing staff and file appeals as registered users. Each participating agency manages, accesses, and controls requests submitted to it through FOIAonline, including responding to requests for information in the possession of the agency and making information available in the system's repository of released records. The types of FOIA requests submitted to agencies by FOIA requesters vary according to an agency's mission as does the type of information an agency requires from requesters when they submit a FOIA. Social security numbers and other types of personally identifiable information may be provided although not required. Agencies will ensure that sensitive PII is not made publicly available.

The name of a FOIA requester will be publicly available and searchable by the public based on an Agency's policies. With the exception of a requester's name, any other personally identifiable information provided by a requester during the process of completing the online request form or creating an online account (e.g., home addresses, email address and contact information) will not be posted to the Web site, nor will it be searchable by the public. Personally identifiable information determined to be publicly releasable and contained in documents released to the public under FOIA (e.g., the names and official contact information of government employees or the names of agency correspondents) will be publicly available and searchable by the public if posted by a participating agency based on their internal policies.

Dated: December 19, 2013.
Renee P. Wynn,
Acting Assistant Administrator, and Acting Chief Information Officer.

EPA-GOVT-2

System Name:

Federal Docket Management System (FDMS)

System Location:

U.S. EPA, Research Triangle Park, NC.

Categories of Individuals Covered by the System:

Any individual commenting on a federal agency's rulemaking activities or submitting supporting materials and individuals requesting access to records pursuant to the Freedom of Information Act, 5 U.S.C. 552 (FOIA) or appealing initial denials of their requests.

Categories of Records in the System:

Agency rulemaking materials including, but not limited to, Federal Register publications, supporting rulemaking documentation, scientific and financial studies and public comments. Records also include the requests filed for agency records pursuant to FOIA, including individuals' names, mailing addresses, email addresses, phone numbers, social security numbers, dates of birth, alias(es) used by the requester, alien numbers assigned to travelers crossing national borders, requester's parents' names, user names and passwords for registered users, FOIA tracking numbers, dates requests are submitted and received, related appeals and agency responses. Records also include communications with requesters, internal FOIA administration documents (e.g., billing invoices) and responsive records.

Authority for Maintenance of the System:

Section 206(d) of the E-Government Act of 2002 (Pub. L. 107-347, 44 U.S.C. Ch 36); Freedom of Information Act, 5 U.S.C. 552; Privacy Act of 1974, 5 U.S.C. 552a; Clinger-Cohen Act of 1986, 40 U.S.C. 11318; and 5 U.S.C. 301.

Purpose(s):

To provide the public a central online location to search, view, download and comment on Federal rulemaking documents and a single location to submit and track FOIA requests and appeals filed with participating agencies, along with providing the agencies electronic FOIA processing and administrative capabilities.

Routine Uses of Records Maintained in the System, Including Categories of Users and the Purposes of Such Uses:

General routine uses A, B, C, D, E, F, G, H, K, and L apply to this system. Records may also be disclosed to another Federal agency (a) with an interest in an agency record in connection with a referral of a Freedom of Information Act (FOIA) request to that agency for its views or decision on disclosure or (b) in order to obtain advice and recommendations concerning matters on which the agency has specialized experience or particular competence that may be useful to agencies in making required determinations under FOIA.

Policies and Practices for Storing, Retrieving, Accessing, Retaining, and Disposing of Records in the System:

Storage:

FDMS security protocols meet all required security standards issued by the National Institute of Science and Technology (NIST). Records in FDMS are maintained in a secure, password protected electronic system that utilizes security hardware and software to include multiple firewalls, active intruder detection, and role-based access controls. Additional safeguards will vary by agency.

Retrievability:

The system has the ability to retrieve records by numerous data elements and key word searches, including name, agency, dates, subject, docket type, docket sub-type, agency docket ID, docket title, docket category, document type, CFR Part, date received and Federal Register publication date, FOIA tracking number and other information retrievable with full-text searching capability.

Accessing:

The public may access regulatory records in the system at www.regulations.gov and FOIA records at https://foiaonline.regulations.gov.

Safeguards:

FDMS security protocols meet multiple NIST security standards from authentication to certification and accreditation. Records in the system are maintained in a secure, password protected electronic system that utilizes security hardware and software to include multiple firewalls, active intruder detection, and role-based access controls. Additional safeguards vary by agency for the regulatory records. Security controls are commensurate with those required for an information system rated moderate for confidentiality, integrity and availability as prescribed by NIST.

Retention and Disposal:

Each Federal agency handles its records in accordance with its records schedule as approved by the National Archives and Records Administration (NARA). FOIA records are covered under NARA General Record Schedule 14—Information Services Records unless a participating agency's records are managed under other record schedules approved by NARA.

System Manager(s) Address and Contact Information:

eRulemaking PMO, Office of Information Collection, Office of Environmental Information, U.S. EPA, M/C 2821T, 1200 Pennsylvania Ave. NW., Washington, DC 20460.

Notification Procedure:

Any individual who wants to know whether this system of records contains a record about him or her, who wants access to his or her record, or who wants to contest the contents of a record, should contact the agency conducting the rulemaking activity or to the agency that provided the FOIA response, as appropriate.

Record Access Procedure:

Individuals seeking access to their own personal information in this system of records is required to provide adequate identification (e.g., driver's license, military identification card, employee badge or identification card and, if necessary, proof of authority). Additional identity verification procedures may be required as warranted. Requests must meet the requirements of EPA regulations at 40 CFR part 16.

Contesting Records Procedures:

Requests for correction or amendment must identify the record to be changed and the corrective action sought. Requests must be submitted to the agency contact indicated on the initial document for which the related contested record was submitted.

Record Source Categories:

Records deriving for individuals commenting on federal rulemaking activities and filing FOIA requests and appeals.

System Exempted From Certain Provisions of the Act:

None.

[FR Doc. 2014-03430 Filed 2-14-14; 8:45 am]

BILLING CODE P